Title 3—

The President

Proclamation 10417 of June 17, 2022

Father's Day, 2022

By the President of the United States of America

A Proclamation

Every year on Father's Day, we honor the men who help shape our character through their love, guidance, and devotion. Dads and father figures across the country sacrifice so much to support their families and to ensure that their children can lead fulfilling lives.

I remember my own father, who instilled in me some of the most important values that guide me to this day. He taught me to treat all people with dignity, and that there is no higher calling than to be a good parent. He informed the way that I raised my own children—and how they continue to raise theirs. Just like my father, dads all over our country help teach their kids a sense of right and wrong that stays with them their entire lives. We owe these wonderful fathers a great deal of respect and gratitude.

For many of us, Father's Day is an opportunity to pause and remember the fathers, stepfathers, father figures, grandfathers, brothers, and children that we have lost—but who are never gone. Too many of us know a dad who was lost too soon or a father who has lost a child. The pain runs deep, but we draw strength from knowing that our loved ones will always remain with us.

Like so many Americans, I am thankful for the precious time I have had both as a son and as a father. The unique challenges of the last few years have reminded us to cherish the time we have with our dads—learning more from them, showing them more gratitude, and showering them with more love.

My Administration is dedicated to supporting our Nation's fathers and families. We provided historic funding to help parents access child care during the pandemic, and we continue to fight for lower costs and higher quality child care for the long term. We are working to ensure that parents can access paid leave as they welcome a new child or care for a sick loved one. Additionally, we are working tirelessly for safer communities so that all fathers can raise their children in flourishing neighborhoods. From my own personal experience as a single dad, I know how critical support is when raising a family. That is why we remain committed to helping single parents ensure that their children have equal opportunities to thrive.

On Father's Day, we pay tribute to the dads, stepdads, grandfathers, and father figures who lift us up on their shoulders so that we can reach our full potential. We express our gratitude for all that they sacrifice on our behalf. We honor the contributions they make every day to strengthen their families and our Nation.

NOW, THEREFORE, I, JOSEPH R. BIDEN JR., President of the United States of America, in accordance with a joint resolution of the Congress approved April 24, 1972, as amended (36 U.S.C. 109) do hereby proclaim June 19, 2022, as Father's Day. I direct the appropriate officials of the Government to display the flag of the United States on all Government buildings on this day. Let us honor our fathers, living and deceased, and show them the love and gratitude they deserve.

IN WITNESS WHEREOF, I have hereunto set my hand this seventeenth day of June, in the year of our Lord two thousand twenty-two, and of the Independence of the United States of America the two hundred and forty-sixth.

[FR Doc. 2022-13545

Filed 6-22-22; 8:45 am]

Billing code 3395-F2-P